FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 14980N.

Name: Blue Ocean Transport, Inc.

Address: 40 Exchange Place, New York, NY 10005.

Date Revoked: October 27, 2001.

Reason: Failed to maintain a valid bond.

License Number: 15777N.

Name: ECU Line U.S.A., LLC.

Address: 11825 NW 100th Road, Suite 3, Miami, FL 33178.

Date Revoked: October 16, 2001.

Reason: Failed to maintain a valid bond.

License Number: 16141N and 16141F.

Name: First Air Express, Inc. dba FAE, Transportation dba Bison Warehouse and Distribution.

Address: 11800 Stonehollow #200, Austin, TX 78758.

Date Revoked: September 7, 2001 and September 16, 2001.

Reason: Failed to maintain valid bonds.

License Number: 16144F.

Name: Fleetwood Shipping, Inc.

Address: 5990 North Belt East, Suite 601, Humble, TX 77396.

Date Revoked: October 20, 2001.

Reason: Failed to maintain a valid bond.

License Number: 861F.

Name: George J. Young & Co.

Address: 110 West Ocean Blvd., Suite 622, Long Beach, CA 90802.

Date Revoked: November 1, 2001.

Reason: Failed to maintain a valid bond.

License Number: 16461N.

Name: Jeong G. Ju dba Korea Express Washington, Inc.

Address: 7912 Yarnwood Ct., Springfield, VA 22153.

Date Revoked: October 17, 2001.

Reason: Failed to maintain a valid bond.

License Number: 16638F.

Name: Kalem Freight Forwarding Inc.

Address: 10505 NW 27th Street, Unit 2, Miami, FL 33172.

Date Revoked: September 16, 2001.

Reason: Failed to maintain a valid bond.

License Number: 16351N.

Name: LTL International Co., Ltd.

Address: 1890 NW 82nd Avenue, Suite 101, Miami, FL 33126.

Date Revoked: October 24, 2001.

Reason: Failed to maintain a valid bond.

License Number: 4406F.

Name: Protrans Logistics & Agency, Inc.

Address: 3371 Cerritos Avenue, Los Alamitos, CA 90808.

Date Revoked: September 24, 2001.

Reason: Surrendered license voluntarily.

License Number: 16225N.

Name: U.S. Consolidators International Corp.

Address: 39 Broadway, Suite 650, New York, NY 10006.

Date Revoked: October 17, 2001.

Reason: Failed to maintain a valid bond.

License Number: 16833N.

Name: United World Express, Inc.

Address: 2065 Ross Street, Vernon, CA 90058.

Date Revoked: October 25, 2001.

Reason: Failed to maintain a valid bond.

Sandra L. Kusumoto,
Director, Bureau of Consumer Complaints and Licensing.

[FR Doc. 01-29136 Filed 11-20-01; 8:45 am]

BILLING CODE 6730-01-P